DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Economic Value of Non-consumptive Recreation Use from those Accessing the Monterey Bay National Marine Sanctuary via For Hire Operation Boats.

OMB Control Number: 0648-0726.

Form Number(s): None.

Type of Request: Regular (extension of a currently approved information collection).

Number of Respondents: 1,050.

Average Hours per Response: 2 hours per for hire operation, 20 minutes per on-site interview of passengers, 20 minutes per importance-satisfaction/knowledge, attitudes & perceptions mail back, and 20 minutes for the expenditure mail back.

Burden Hours: 733.

Needs and Uses: This request is for extension of a currently approved information collection. The collection was approved three years ago but had not begun.

The required information will be obtained through surveys of the for hire operations that take people out for non-consumptive recreation to obtain total use by type of activity and the spatial use by type of activity. Information will also be obtained on costs-and-earnings of the operations, knowledge, attitudes & perceptions of sanctuary management strategies and regulations, and demographic information on owner/captains and crews. Surveys will also be conducted of the passengers aboard the for hire operation boats to obtain their market and non-market economic use values for non-consumptive recreation use and how those value change with changes in natural resource attribute conditions and user characteristics. Additional information will be obtained on importance-satisfaction ratings of key natural resource attributes, facilities and services, knowledge, attitudes and perceptions of management strategies and regulations, and demographic profiles of passengers. This survey was not started during the 2015-2018 OMB approval period.

Affected Public: Business or other for-profit organizations; individuals or households.

Frequency: One time.

Respondent's Obligation: One time.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 21, 2018.
Sarah Brabson,
NOAA PRA Clearance Officer.

[FR Doc. 2018-28210 Filed 12-27-18; 8:45 am]

BILLING CODE 3510-NK-P